NUCLEAR REGULATORY COMMISSION

Sunshine Act Meeting

DATE: Weeks of October 21, 28, November 4, 11, 18, 25, 2002.

PLACE: Commissioners' Conference Room, 11555 Rockville Pike, Rockville, Maryland.

Status: Public and Closed.

Matters To Be Considered:

Week of October 21, 2002

There are no meetings scheduled for the Week of October 21, 2002.

Week of October 28, 2002—Tentative

Wednesday, October 30, 2002

2 p.m.—Discussion of Security Issues (Closed—Ex. 1 & 9)

Thursday, October 31, 2002

9:25 a.m.-Affirmation Session (Public Meeting) (If needed)

9:30 a.m.-Briefing on EEO Program (Public Meeting) (Contact: Irene Little, 301-415-7380)

2:30 p.m.-Briefing on Proposed Rulemaking to Add New Section 10 CFR 50.69, “Risk-Informed Categorization and Treatment of Structures, Systems, and Components for Nuclear Power Reactors” (Public Meeting) (Contact: Eileen McKenna, 301-415-2189, or Timothy Reed, 301-415-1462)

This meeting will be webcast live at the Web address— www.nrc.gov.

Friday, November 1, 2002

9 a.m.—Discussion of Security Issues (Closed—Ex. 1)

Week of November 4, 2002—Tentative

There are no meetings scheduled for the Week of November 4, 2002.

Week of November 11, 2002—Tentative

Thursday, November 14, 2002

2 p.m.—Discussion of Management Issues (Closed—Ex. 2)

Week of November 18, 2002—Tentative

Thursday, November 21, 2002

2 p.m.—Discussion of Security Issues (Closed—Ex. 1)

Week of November 25, 2002—Tentative

There are no meetings scheduled for the week of November 25, 2002.

*The schedule for Commission meetings is subject to change on short notice. To verify the status of meetings call (recording)—(301) 415-1292. Contact person for more information: R. Michelle Schroll (301) 415-1662.

The NRC Commission Meeting Schedule can be found on the Internet at: www.nrc.gov/what-we-do/policy-making/schedule.html

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: October 17, 2002.
R. Michelle Schroll,
Acting Technical Coordinator, Office of the Secretary.

[FR Doc. 02-26995 Filed 10-17-02; 2:17 pm]

BILLING CODE 7590-01-M